DEPARTMENT OF DEFENSE

Department of the Navy

Notice of Intent To Prepare an Environmental Impact Statement (EIS) for an Annex to the Fort Rosecrans National Cemetery at Marine Corps Air Station Miramar, San Diego, CA

AGENCY: Department of the Navy, DOD.

ACTION: Notice.

SUMMARY: In accordance with Section 102(2)(c) of the National Environmental Policy Act (NEPA) of 1969 (42 U.S.C. 4332(2)(c)), as implemented by the Council on Environmental Quality Regulations (40 CFR parts 1500-1508), the Department of the Navy, Marine Corps Air Station Miramar (MCAS Miramar) and Department of Veterans Affairs intend to prepare an environmental impact statement (EIS) and conduct a public scoping meeting for the proposed development and operation of a national veteran's cemetery at MCAS Miramar in San Diego, California. The cemetery will be an annex to the Department of Veterans Affairs Fort Rosecrans National Cemetery.

DATES: All written scoping comments must be received by Friday, November 18, 2005. A public meeting to receive comments on the scope of the EIS will be held on Wednesday, November 2, 2005, from 6 p.m. to 8 p.m.

ADDRESSES: Written comments should be directed to: Ms. Hiphil S. Clemente (Code OPCE.HC), Southwest Division, Naval Facilities Engineering Command, 1220 Pacific Highway, San Diego, California, 92132. The public scoping meeting will be held at the Holiday Inn Select Miramar, 9335 Kearny Mesa Road, San Diego, CA.

FOR FURTHER INFORMATION CONTACT: Ms. Hiphil S. Clemente, Southwest Division, Naval Facilities Engineering Command at telephone 619-532-3781, fax 619-532-4160, or E-mail: hiphil.clemente@navy.mil.

SUPPLEMENTARY INFORMATION: The Department of Veterans Affairs operates the Fort Rosecrans National Cemetery, located on the Point Loma Submarine Base. It is the only national cemetery in San Diego County and has been closed to casketed burials since 1966. It will be closed to cremated remains burials by 2008. About 7 acres of additional land was acquired from the Point Loma Submarine Base in 2002. The National Cemetery Administration constructed columbarium niches to provide a limited number of cremation burial options to the San Diego veteran population. Demand for these columbarium niches as a burial option has been high, resulting in Fort Rosecrans National Cemetery being ranked the tenth busiest national cemetery, according to interment workload within the National Cemetery Administration. Accordingly, with this high demand, these columbarium niches are rapidly being depleted at this cemetery and will only provide space until 2008. No additional land is available for expansion at Fort Rosecrans or Point Loma Submarine Base.

The Department of Veterans Affairs National Cemetery Administration has identified a need for additional burial space for the 253,000 San Diego area military veterans. The Department of the Navy offered four potential sites at MCAS Miramar for consideration.

A Siting Study was prepared by the Department of the Navy and Department of Veterans Affairs to evaluate the suitability of the four potential MCAS Miramar cemetery sites. Based on the Siting Study, two sites were determined feasible for use and will be evaluated in detail in the EIS.

The proposed action is development and operation of a national veterans cemetery at MCAS Miramar as part of an annex to the Department of Veterans Affairs Fort Rosecrans National Cemetery. The proposal includes a land use agreement between the Department of the Navy and Department of Veterans Affairs for development and operation of the cemetery. The proposed site, identified as Site 2, is a 327-acre site located in the northwestern corner of MCAS Miramar across Miramar Road. The site is bounded by Miramar Road to the north, the commuter railway to the south and east, and the western boundary of MCAS Miramar to the west.

An alternative site, identified as Site 4, is a 279-acre site located in the south-central portion of MCAS Miramar in the former Camp Elliott area. The site is completely surrounded by freeways with State Route 163 to the west, State Route 52 to the south, and Interstate 15 to the east. Kearny Villa Road traverses the site in a north-south direction.

The EIS will evaluate potential environmental effects associated with action alternatives and the no action alternative. Potential issues include, but are not limited to, biological resources, historic and archaeological resources, geology and soils, hydrology, air quality, explosive safety and traffic. Relevant and reasonable measures that could alleviate environmental effects will be considered.

The Department of the Navy and the Department of Veterans Affairs will jointly undertake necessary consultations with regulatory entities pursuant to the Endangered Species Act, Clean Water Act, National Historic Preservation Act, and any other applicable law or regulation. Consultation will include but is not limited to the following Federal, state, and local agencies: U.S. Fish and Wildlife Service; State Historic Preservation Officer; U.S. Army Corps of Engineers; U.S. Environmental Protection Agency; San Diego Regional Water Quality Control Board; California Department of Transportation; San Diego Air Pollution Control District; California Department of Toxic Substance Control; and the County of San Diego, Department of Environmental Health.

The public scoping period begins with the publication of this Notice of Intent and ends November 18, 2005. All scoping comments must be received by November 18, 2005. A public scoping meeting will be held on Wednesday, November 2, 2005, from 6 p.m. to 8 p.m. at the Holiday Inn Select Miramar, 9335 Kearny Mesa Road, San Diego, California. The public scoping meeting will follow an informal open house format. The public is invited to attend the meeting at their convenience during the meeting hours and can view project-related displays and speak with Department of the Navy and Department of Veterans Affairs representatives. A court reporter will be available at the meeting to accept oral comments.

Dated: October 4, 2005.
I.C. Le Moyne Jr.,
Lieutenant, Judge Advocate General's Corps, U.S. Navy, Alternate Federal Register Liaison Officer.

[FR Doc. 05-20436 Filed 10-11-05; 8:45 am]

BILLING CODE 3810-FF-P